DEPARTMENT OF ENERGY

Federal Energy Regulatory Commission

[Project No. 77-110; California]

Pacific Gas and Electric Company; Notice of Application Tendered for Filing with the Commission and Soliciting Comments

July 5, 2001.

Take notice that the following hydroelectric application has been filed with the Commission and is available for public inspection.

a. Type of Application: Amendment to License Amendment Application.

b. Project No.: 77-110.

c. Date filed: June 14, 2001.

d. Applicant: Pacific Gas and Electric Company.

e. Name of Project: Potter Valley Hydroelectric Project.

f. Location: Eel River and East Fork Russian River, in Mendocino and Lake counties, California. The project is partially located within the Mendocino National Forest, on federal lands administered by the U.S. Forest Service.

g. Filed Pursuant to: Federal Power Act 16 U.S.C. §§ 791 (a)-825(r).

h. Applicant Contact: Ms. Rhonda Shiffman, Project Manager, Pacific Gas and Electric Company, P.O. Box 770000, Mail Code N11C, San Francisco, CA 94177, (415) 973-5852.

i. FERC Contact: John Mudre, E-mail address john.mudre@ferc.fed.us, or telephone (202) 219-1208.

j. Deadline Date: August 6, 2001.

All documents (original and eight copies) should be filed with: David P. Boergers, Secretary, Federal Energy Regulatory Commission 888, First Street, NE., Washington DC 20426.

Comments, protests and interventions may be filed electronically via the Internet in lieu of paper. See, 18 CFR 385.2001(a)(1)(iii) and the instructions on the Commission's web site under the “e-Filing” link.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. Description: On March 31, 1998, Pacific Gas and Electric Company (PG&E) filed an application to amend its license for the Potter Valley Hydroelectric Project in order to increase minimum flow releases to the Eel River to benefit anadromous salmonids therein. Commission staff subsequently prepared an Environmental Impact Statement to analyze the impacts of the proposed alternative and five other alternatives. The EIS recommended a proposal proposed by PG&E and the Potter Valley Irrigation District (PVID; the PG&E/PVID proposal) as the preferred alternative. Pursuant to Section 7 of the Endangered Species Act, Commission staff entered into formal consultation with the National Marine Fisheries Service (NMFS) on the effects of the proposed agency action on listed salmonids in the Eel and Russian rivers. The proposed modification of the PG&E/PVID proposal that is the subject of this notice was developed as a result of discussions among PG&E, NMFS, the California Department of Fish and Game, the U.S. Fish and Wildlife Service and others during the pendency of the formal consultation. The modifications to the proposal are intended to address concerns raised by the NMFS in their November 21, 2000, draft biological opinion.

Our preliminary analysis suggests that the scope of environmental impacts associated with this modified proposal would be within the range of effects of the alternatives considered in our May 2000 FEIS, in particular, between the PG&E/PVID alternative and the DOI/NMFS alternative. Should further review of the modified proposal confirm that finding, Commission staff would conduct no further NEPA review, finish ESA formal consultation, and present the matter to the Commission for decision.

To assist us in our review of the modified proposal, we are soliciting comments from resource agencies and other interested parties on the modified proposal. These comments will be considered in conjunction with our technical review of the modified proposal as we decide whether further NEPA analysis is warranted, and whether we should adopt the modified proposal as our proposed agency action.

l. Locations of the application: A copy of the application is available for inspection and reproduction at the Commission's Public Reference Room, located at 888 First Street, NE., Room 2A, Washington, D.C. 20426, or by calling (202) 208-1371. The application may be viewed on http://rimsweb1.ferc.gov/rims (call (202)208-2222 for assistance). A copy is also available for inspection and reproduction at the address in item h above.

David P. Boergers,
Secretary.

[FR Doc. 01-17310 Filed 7-10-01; 8:45 am]

BILLING CODE 6717-01-P